DEPARTMENT OF COMMERCE

National Oceanic and Atmospheric Administration

RIN 0648-XD951

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold a meeting of its Guam and Commonwealth of the Northern Mariana Islands (CNMI) Mariana Archipelago Fishery Ecosystem Plan (FEP) Advisory Panels (AP) to discuss and make recommendations on fishery management issues in the Western Pacific Region.

DATES: The Guam Mariana Archipelago FEP AP will meet on Friday, June 5, 2015, between 6 p.m. and 7:30 p.m. and the CNMI Mariana Archipelago FEP AP will meet on Friday, June 5, 2015, between 5 p.m. and 7 p.m. All times listed are local island times.

For specific times and agendas, see SUPPLEMENTARY INFORMATION.

ADDRESSES: The Guam Mariana Archipelago FEP AP will meet at the Guam Fishermen's Cooperative Association Lanai in Hagatna, Guam, and the CNMI Mariana Archipelago FEP AP will meet at the Division of Fish and Wildlife Conference Room in Tanapag, Saipan, CNMI.

FOR FURTHER INFORMATION CONTACT: Kitty M. Simonds, Executive Director; telephone (808) 522-8220.

SUPPLEMENTARY INFORMATION: Public comment periods will be provided in the agenda. The order in which agenda items are addressed may change. The meetings will run as late as necessary to complete scheduled business.

Schedule and Agenda for the Guam Mariana Archipelago FEP AP Meeting

6 p.m.-7:30 p.m., Friday, June 5, 2015

1. “Hafa Adai” Welcome and Introductions

2. Review and Approval of the Agenda

3. Issues to be discussed at 163rd Council Meeting

A. Upcoming Council Action Items

i. Cooperative Research Priorities

ii. Five-year Research Priorities

B. Mariana Archipelago FEP-Guam Community Activities

4. Mariana Archipelago FEP-Guam Issues

A. Report of the Subpanels

i. Island Fisheries Subpanel

ii. Pelagic Fisheries Subpanel

iii. Ecosystems and Habitat Subpanel

iv. Indigenous Fishing Rights Subpanel

B. Other Issues

5. Public Comment

6. Discussion and Recommendations

7. “At the end of the day” Other Business

Schedule and Agenda for the CNMI Mariana Archipelago FEP AP Meeting

5 p.m.-7 p.m., Friday, June 5, 2015

1. Welcome and Introductions

2. Review and Approval of the Agenda

3. Issues to be discussed at 163rd Council Meeting

A. Upcoming Council Action Items

i. Cooperative Research Priorities

ii. Five-year Research Priorities

B. Mariana Archipelago FEP-CNMI Community Activities

4. Mariana Archipelago FEP-CNMI Issues

A. Report of the Subpanels

i. Island Fisheries Subpanel

ii. Pelagic Fisheries Subpanel

iii. Ecosystems and Habitat Subpanel

iv. Indigenous Fishing Rights Subpanel

B. Other Issues

5. Public Comment

6. Discussion and Recommendations

7. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 15, 2015.
Tracey L. Thompson,
Acting Deputy Director, Office of Sustainable Fisheries, National Marine Fisheries Service.

[FR Doc. 2015-12172 Filed 5-19-15; 8:45 am]

BILLING CODE 3510-22-P